DEPARTMENT OF COMMERCE

International Trade Administration

[A-570-979, C-570-980]

Crystalline Silicon Photovoltaic Cells, Whether or Not Assembled Into Modules, From the People's Republic of China: Preliminary Results of Changed Circumstances Reviews, and Consideration of Revocation of the Antidumping and Countervailing Duty Orders, in Part

AGENCY: Enforcement and Compliance, International Trade Administration, Department of Commerce.

SUMMARY: On April 17, 2018, the Department of Commerce (Commerce) received a request for revocation, in part, of the antidumping duty (AD) and countervailing duty (CVD) orders on certain crystalline silicon photovoltaic cells from the People's Republic of China (China) (the Orders) with respect to certain off-grid solar panels. Because producers accounting for substantially all of the domestic production of certain off-grid solar panels lack interest in the relief provided by the Orders, we intend to revoke, in part, the Orders with respect to these products. Interested parties are invited to comment on these preliminary results.

DATES: Applicable August 20, 2018.

FOR FURTHER INFORMATION CONTACT: Eli Lovely, AD/CVD Operations, Office IV, Enforcement and Compliance, International Trade Administration, U.S. Department of Commerce, 1401 Constitution Avenue NW, Washington, DC 20230; telephone: (202) 482-1593.

Background

On December 7, 2012, Commerce published AD and CVD orders on certain crystalline silicon photovoltaic cells, whether or not assembled into modules, from China.¹ On April 17, 2018, Goal Zero, LLC (Goal Zero), an importer of the subject merchandise, requested through changed circumstances reviews, revocation, in part, of the Orders, pursuant to section 751(b)(1) of the Tariff Act of 1930, as amended (the Act) and 19 CFR 351.216(b),² with respect to certain off-grid solar panels. On May 4, 2018, SolarWorld Americas, Inc. (the petitioner) submitted a letter stating that it does not oppose the partial revocation proposed by Goal Zero.³ On May 14, 2018, Commerce issued a supplemental questionnaire to Goal Zero,⁴ to which it responded on May 23, 2018.⁵

¹ See Crystalline Silicon Photovoltaic Cells, Whether or Not Assembled into Modules, from the People's Republic of China: Amended Final Determination of Sales at Less Than Fair Value, and Antidumping Duty Order, 77 FR 73018 (December 7, 2012) (AD Order) and Crystalline Silicon Photovoltaic Cells, Whether or Not Assembled into Modules, from the People's Republic of China: Countervailing Duty Order, 77 FR 73017 (December 7, 2012) (CVD Order) (collectively, Orders).

² See Goal Zero's Letter, “Goal Zero LLC's Request for a Changed Circumstances Review,” (Goal Zero's Request) dated April 17, 2018.

³ See SolarWorld's Letter, “Support for Goal Zero LLC's Request for a Changed Circumstances Review,” dated May 4, 2018.

⁴ See Commerce's Letter, dated May 14, 2018.

⁵ See “Goal Zero LLC's Response to Additional Questions Regarding the Changed Circumstances Reviews,” dated May 23, 2018.

On May 30, 2018, Commerce extended the time for determining whether to initiate the requested changed circumstances reviews by an additional 30 days, or until July 2, 2018.⁶ On June 29, 2018, Commerce again extended the deadline for determining whether to initiate the requested changed circumstances reviews by an additional 15 days, or until July 16, 2018.⁷ On July 9, 2018, Goal Zero and the petitioner submitted comments regarding the proposed scope exclusion language for these changed circumstances reviews.⁸

⁶ See Commerce's Letter, dated May 30, 2018.

⁷ See Commerce's Letter, dated June 29, 2018.

⁸ See Goal Zero's Letter, “Goal Zero LLC's Comments Regarding the Proposed Scope of the Changed Circumstances Reviews,” dated July 9, 2018; see also the petitioner's Letter, “Comments on Goal Zero LLC' s Request for a Changed Circumstances Review,” dated July 9, 2018.

On July 20, 2018, we published the Initiation Notice for these changed circumstances reviews in the Federal Register.⁹ Because the statement submitted by the petitioner in response to Goal Zero's request did not indicate whether the petitioner accounts for substantially all of the domestic production of crystalline silicon photovoltaic products, in the Initiation Notice, we invited interested parties to submit comments concerning industry support for the revocation in part, as well as comments and/or factual information regarding the changed circumstances reviews. On July 30, 2018, the petitioner submitted comments reiterating support for Goal Zero's request.¹⁰ We received no other comments.

⁹ See Crystalline Silicon Photovoltaic Cells, Whether or Not Assembled Into Modules, from the People's Republic of China: Notice of Initiation of Changed Circumstances Reviews, and Consideration of Revocation of the Antidumping and Countervailing Duty Orders in Part, 83 FR 34542 (July 20, 2018) (Initiation Notice).

¹⁰ See SolarWorld's Letter, “Comments on Goal Zero LLC Changed Circumstances Reviews,” dated July 30, 2018.

Scope of the Antidumping and Countervailing Duty Orders on Certain Crystalline Silicon Photovoltaic Cells From the People's Republic of China

The merchandise covered by the Orders is crystalline silicon photovoltaic cells, and modules, laminates, and panels, consisting of crystalline silicon photovoltaic cells, whether or not partially or fully assembled into other products, including, but not limited to, modules, laminates, panels and building integrated materials.

The Orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the Orders.

Excluded from the scope of the Orders are thin film photovoltaic products produced from amorphous silicon (a-Si), cadmium telluride (CdTe), or copper indium gallium selenide (CIGS).

Also excluded from the scope of the Orders are crystalline silicon photovoltaic cells, not exceeding 10,000mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the Orders are panels with surface area from 3,450 mm2 to 33,782 mm2 with one black wire and one red wire (each of type 22 AWG or 24 AWG not more than 206 mm in length when measured from panel extrusion), and not exceeding 2.9 volts, 1.1 amps, and 3.19 watts. For the purposes of this exclusion, no panel shall contain an internal battery or external computer peripheral ports.

Modules, laminates, and panels produced in a third-country from cells produced in the PRC are covered by the Orders; however, modules, laminates, and panels produced in the PRC from cells produced in a third-country are not covered by the Orders.

Merchandise covered by the Orders is currently classified in the Harmonized Tariff System of the United States (HTSUS) under subheadings 8501.61.0000, 8507.20.80, 8541.40.6020, 8541.40.6030, and 8501.31.8000. These HTSUS subheadings are provided for convenience and customs purposes; the written description of the scope of the Orders is dispositive.¹¹

¹¹ See AD Order, 77 FR at 73018-73019; CVD Order, 77 FR at 73017 (footnote omitted).

Scope of Changed Circumstances Reviews

Goal Zero requests that Commerce revoke the Orders in part to exclude from the scope certain off-grid solar panels as described below:

(1) Off grid CSPV panels in rigid form with a glass cover, with the following characteristics:

(A) A total power output of 100 watts or less per panel;

(B) a maximum surface area of 8,000 cm² per panel;

(C) do not include a built-in inverter;

(D) must include a permanently connected wire that terminates in either an 8mm male barrel connector, or a two-port rectangular connector with two pins in square housings of different colors;

(E) must include visible parallel grid collector metallic wire lines every 1-4 millimeters across each solar cell; and

(F) must be in individual retail packaging (for purposes of this provision, retail packaging typically includes graphics, the product name, its description and/or features, and foam for transport); and

(2) Off grid CSPV panels without a glass cover, with the following characteristics:

(A) A total power output of 100 watts or less per panel;

(B) a maximum surface area of 8,000 cm² per panel;

(C) do not include a built-in inverter;

(D) must include visible parallel grid collector metallic wire lines every 1-4 millimeters across each solar cell; and

(E) each panel is

1. Permanently integrated into a consumer good;

2. encased in a laminated material without stitching, or

3. has all of the following characteristics: (i) The panel is encased in sewn fabric with visible stitching, (ii) includes a mesh zippered storage pocket, and (iii) includes a permanently attached wire that terminates in a female USB-A connector.¹²

¹² See Goal Zero's Letter, “Goal Zero LLC's Comments Regarding the Proposed Scope of the Changed Circumstances Reviews,” dated July 9, 2018 at 10-11.

Preliminary Results of Changed Circumstances Review, and Intent To Revoke the Orders, in Part

Pursuant to section 751(d)(1) of the Act, section 782(h) of the Act, and 19 CFR 351.222(g), Commerce may revoke an AD or CVD order, in whole or in part, based on a review under section 751(b) of the Act (i.e., a changed circumstance review). Section 751(b)(1) of the Act requires a changed circumstance review to be conducted upon receipt of a request which shows changed circumstances sufficient to warrant a review. Section 782(h)(2) of the Act gives Commerce the authority to revoke an order if producers accounting for substantially all of the production of the domestic like product have expressed a lack of interest in the order. Section 351.222(g) of Commerce's regulations provides that Commerce will conduct a changed circumstances review under 19 CFR 351.216, and may revoke an order (in whole or in part), if it concludes that: (i) Producers accounting for substantially all of the production of the domestic like product to which the order pertains have expressed a lack of interest in the relief provided by the order, in whole or in part, or (ii) if other changed circumstances sufficient to warrant revocation exist. Both the Act and Commerce's regulations require that “substantially all” domestic producers express a lack of interest in the order for Commerce to revoke the order, in whole or in part.¹³ Commerce has interpreted “substantially all” to represent producers accounting for at least 85 percent of U.S. production of the domestic like product.¹⁴

¹³ See Section 782(h) of the Act and 19 CFR 351.222(g).

¹⁴ See Honey from Argentina; Antidumping and Countervailing Duty Changed Circumstances Reviews; Preliminary Intent to Revoke Antidumping and Countervailing Duty Orders, 77 FR 67790, 67791 (November 14, 2012), unchanged in Honey from Argentina; Final Results of Antidumping and Countervailing Duty Changed Circumstances Reviews; Revocation of Antidumping and Countervailing Duty Orders, 77 FR 77029 (December 31, 2012) (Honey From Argentina).

In its April 17, 2018 submission, Goal Zero requested that Commerce expedite the changed circumstances reviews.¹⁵ Commerce's regulations do not specify a deadline for the issuance of preliminary results of a changed circumstances review, but provide that Commerce will issue the final results of review within 270 days after the date on which the changed circumstances review is initiated, or within 45 days if all parties to the proceeding agree to the outcome of the review.¹⁶ Commerce did not issue a combined notice of initiation and preliminary results because, as discussed above, the statement provided by the petitioner in response to Goal Zero's Request did not indicate whether the petitioner accounts for substantially all domestic production of certain crystalline silicon photovoltaic products.¹⁷ Thus, Commerce did not determine in the Initiation Notice that producers accounting for substantially all of the production of the domestic like product lacked interest in the continued application of the Orders as to certain off-grid solar panels. Further, Commerce requested interested party comments on the issue of domestic industry support of a partial revocation.¹⁸

¹⁵ See Goal Zero's Request at 9.

¹⁶ See 19 CFR 351.216(e).

¹⁷ See Initiation Notice.

¹⁸ Id.

Commerce received no comments concerning whether the petitioner accounts for substantially all domestic production of certain crystalline silicon photovoltaic products or opposing initiation of the changed circumstances reviews of the Orders. Hence, Commerce now preliminarily finds that producers accounting for substantially all of the production of the domestic like product lack interest in the relief afforded by the Orders with respect to the off-grid solar panels as described in Goal Zero's Request. We will consider comments from interested parties on these preliminary results before issuing the final results of this review.¹⁹

¹⁹ See, e.g., Honey From Argentina; Antidumping and Countervailing Duty Changed Circumstances Reviews; Preliminary Intent to Revoke Antidumping and Countervailing Duty Orders, 77 FR 67790, 67791 (November 14, 2012); Aluminum Extrusions From the People's Republic of China: Preliminary Results of Changed Circumstances Reviews, and Intent to Revoke Antidumping and Countervailing Duty Orders in Part, 78 FR 66895 (November 7, 2013); see also 19 CFR 351.222(g)(1)(v).

In light of Goal Zero's Request and the absence of any interested party comments received during the comment period, we preliminarily conclude that changed circumstances warrant revocation of the Orders, in part, because the producers accounting for substantially all of the production of the domestic like product to which the Orders pertain lack interest in the relief provided by the Orders with respect to the off-grid solar panels that are the subject of Goal Zero's Request.

Accordingly, we are notifying the public of our intent to revoke the Orders, in part, with respect to certain off-grid solar panels as defined above.

Public Comment

Interested parties are invited to comment on these preliminary results in accordance with 19 CFR 351.309(c)(1)(ii). Written comments may be submitted no later than 14 days after the date of publication of these preliminary results. Rebuttals to written comments, limited to issues raised in such comments, may be filed no later than seven days after the due date for comments. All submissions must be filed electronically using Enforcement and Compliance's AD and CVD Centralized Electronic Service System (ACCESS). ACCESS is available to registered users at http://access.trade.gov and in the Central Records Unit, room B8024 of the main Department of Commerce building. An electronically filed document must be received successfully in its entirety by ACCESS, by 5 p.m. Eastern Time on the day it is due.

Commerce will issue the final results of these changed circumstances reviews, which will include its analysis of any written comments, no later than 270 days after the date on which this review was initiated.

If, in the final results of these reviews, Commerce continues to determine that changed circumstances warrant the revocation of the Orders, in part, we will instruct U.S. Customs and Border Protection to liquidate without regard to antidumping or countervailing duties, and to refund any estimated antidumping or countervailing duties, on all unliquidated entries of the merchandise covered by the revocation that are not covered by the final results of an administrative review or automatic liquidation.

The current requirement for cash deposits of estimated antidumping and countervailing duties on all entries of subject merchandise will continue unless until they are modified pursuant to the final results of these changed circumstances reviews.

These preliminary results of reviews and notice are in accordance with sections 751(b) and 777(i) of the Act and 19 CFR 351.216, 19 CFR 351.221(c)(3), and 19 CFR 351.222.

Dated: August 14, 2018.
Gary Taverman,
Deputy Assistant Secretary for Antidumping and Countervailing Duty Operations, performing the non-exclusive functions and duties of the Assistant Secretary for Enforcement and Compliance.

[FR Doc. 2018-17907 Filed 8-17-18; 8:45 am]

BILLING CODE 3510-DS-P